DEPARTMENT OF HEALTH AND HUMAN SERVICES

National Institutes of Health

Submission for OMB Review; 30-Day Comment Request; Center for Cancer Training (CCT) Application Form for Electronic Individual Development Plan (eIDP) (National Cancer Institute)

AGENCY: National Institutes of Health, Department of Health and Human Services (HHS).

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, submit comments in writing, or request more information on the proposed project, contact: Erika Ginsburg, Scientific Program Analyst, Center for Cancer Training, National Cancer Institute, 9609 Medical Center Drive, Room 2W-110, Bethesda, Maryland 20892 or call non-toll-free number (240) 276-5627 or email your request, including your address to: ginsbure@mail.nih.gov. Formal requests for additional plans and instruments must be requested in writing.

SUPPLEMENTARY INFORMATION: This proposed information collection was previously published in the Federal Register on February 16, 2022 (87 FR 8858) and allowed 60 days for public comment. No public comments were received. The purpose of this notice is to allow an additional 30 days for public comment. The National Cancer Institute (NCI), National Institutes of Health (NIH), may not conduct or sponsor, and the respondent is not required to respond to, an information collection that has been extended, revised, or implemented on or after October 1, 1995, unless it displays a currently valid Office of Management and Budget (OMB) control number.

In compliance with Section 3507(a)(1)(D) of the Paperwork Reduction Act of 1995, NIH has submitted to OMB a request for review and approval of the information collection listed below.

Proposed Collection: Center for Cancer Training (CCT) Application Form for electronic Individual Development Plan (eIDP), 0925-0762, Expiration Date 07/31/2022, REVISION, National Cancer Institute (NCI), National Institutes of Health (NIH).

Need and Use of Information Collection: The National Cancer Institute's (NCI) Center for Cancer Training (CCT) supports NCI's goal of training cancer researchers with various educational levels (postbaccalaureate, graduate students, postdoctoral fellows) and for varying periods of time (3 months to 5 years). The eIDP is an online, detailed questionnaire focused on responses to career and professional goals and expectations while the trainee works at the NIH. The eIDP ensures the trainees are receiving proper career and professional guidance, making appropriate progress, and determining activities to achieve their goals. The eIDP is also used to track trainees' career and professional goals and to ensure trainees receive the tools needed to achieve those goals. The eIDP will be administered electronically to new trainees as they on-board or to current trainees on a rolling basis upon their yearly appointment renewal dates. Electronic email will be used to request completion of the eIDP. The effectiveness of training could also be enhanced by the reports received by the trainees completing the eIDP. Individual Development Plans have been collected by paper and pencil from trainees since 2001. Since approval of this Information Collection Request and since its inception, other ICs have come to know about the eIDP and want to join and have their trainees participate. This revision request is intended to add other ICs to the eIDP system.

OMB approval is requested for 3 years. There are no costs to respondents other than their time. The total estimated annualized burden are 2,009 hours.

Estimated Annualized Burden Hours
Type of respondent | Number of respondents | Number of responses per respondent | Average time per response (in hours) | Total annual burden hours
Individuals—eIDP | 1,800 | 1 | 1 | 1,800
Individuals—Alumni | 500 | 1 | 5/60 | 42
Individuals—Feedback | 500 | 1 | 20/60 | 167
Totals |  | 2,800 |  | 2,009

Diane Kreinbrink,
Project Clearance Liaison, National Cancer Institute, National Institutes of Health.

[FR Doc. 2022-08597 Filed 4-21-22; 8:45 am]

BILLING CODE 4140-01-P